DEPARTMENT OF THE INTERIOR

Bureau of Land Management

[WO-220-1020-24 1A]

Notice of Public Meeting

AGENCY: Bureau of Land Management, Interior.

ACTION: Notice of public meeting.

SUMMARY: On January 6, 2004, the Bureau of Land Management (BLM) published in the Federal Register (Vol. 69, 569-570) a Notice of Availability of the draft environmental impact statement (Draft EIS) for Proposed Regulatory Revisions to Grazing Regulations for the Public Lands and an announcement of public meetings. BLM originally planned to hold 5 public meetings to provide opportunities for the public to ask questions and provide comments about the issues and alternatives considered in the Draft EIS. Due to public interest BLM is announcing another meeting in Billings Montana.

DATES: The meeting will be held on Monday, February 2, 2004 at the Holiday Inn Grand Montana, 5500 Midland Road Billings, Montana. The meeting will begin at 6 p.m. and end at approximately 10 p.m. The public comment period will end on March 2, 2004.

FOR FURTHER INFORMATION CONTACT: Molly S. Brady, Project Coordinator, at (202) 452-7714. For information about the Billings meeting location contact Mary Apple, (406) 896-5258.

SUPPLEMENTARY INFORMATION: The site for the public meeting is accessible to individuals with physical impairments. If you need a special accommodation to participate in the meeting (e.g., interpreting service, assistive listening device, or materials in alternative format), please notify the contact person no later than (figure out the date two weeks prior to meeting). Although we will attempt to meet all requests received, the requested accommodations may not always be available.

If you plan to present a statement at the meeting, we will ask you to sign in before the meeting starts and identify yourself clearly for the record. Your allotted speaking time at the meeting will be determined before the meeting, based upon the number of persons wishing to speak and the approximate time available for the session. You will be provided at least three minutes to speak.

If you do not wish to speak at the meeting, but you have views, questions, and concerns about either the Draft EIS or the proposed regulations you may submit written statements for inclusion in the public record at the meeting. You may also submit written comments and suggestions regardless of whether you attend or speak at the public meeting.

Dated: January 9, 2004.
Thomas H. Dyer,
Deputy Assistant Director, Planning and Renewable Resources.

[FR Doc. 04-927 Filed 1-14-04; 8:45 am]

BILLING CODE 4310-84-P